DEPARTMENT OF DEFENSE

Department of the Army, Corps of Engineers

Availability of a Draft Integrated Feasibility Report (Feasibility Report/Environmental Impact Statement), Aliso Creek Mainstem Ecosystem Restoration Study, Orange County, California

AGENCY: Department of the Army, U.S. Army Corps of Engineers, DoD.

ACTION: Notice of availability.

SUMMARY: The U.S. Army Corps of Engineers (Corps), in cooperation with Orange County Public Works, Orange County, CA announces the availability of a Draft Integrated Feasibility Report (Draft IFR) including Feasibility Report and Environmental Impact Statement (EIS) for the Aliso Creek Mainstem Ecosystem Restoration Study, Orange County, CA for review and comment. The study evaluates opportunities for restoring degraded aquatic and riparian ecosystem structure and function, riverine and floodplain system connectivity, stream channel stability and protection of critical public infrastructure, including both regional water supply and wastewater conveyance pipelines along the lower Aliso Creek Mainstem in Orange County, CA. A Notice of Intent to prepare the Draft EIS was published on April 9, 2009 in the Federal Register (74 FR 16188). A public scoping meeting was conducted on May 7, 2009 in the City of Mission Viejo, CA.

DATES: The Draft IFR is available for a 45-day review period pursuant to the National Environmental Policy Act (NEPA). Written comments pursuant to the NEPA will be accepted until the close of public review at close of business on November 13, 2017.

ADDRESSES: Questions or comments concerning the Draft IFR may be directed to: Ms. Deborah Lamb; U.S. Army Corps of Engineers; Los Angeles District; CESPL PDR-L; 915 Wilshire Boulevard; Los Angeles, CA 90017-3401 or AlisoCreek@usace.army.mil.

FOR FURTHER INFORMATION CONTACT: Ms. Deborah Lamb, U.S. Army Corps of Engineers, Los Angeles District, phone number (213) 452-3798.

SUPPLEMENTARY INFORMATION: As part of the public involvement process, notice is hereby given by the Corps' Los Angeles District of a public review meeting on October 17, 2017, from 6:00 p.m. to 9:00 p.m. at the Laguna Hills Community Center and Sports Complex, Room-Heritage C. The address is 25555 Alicia Parkway, Laguna Hills, CA 92653. The public meeting will allow participants the opportunity to comment on the IFR. Attendance at the public hearing is not necessary to provide comments. Written comments may also be given to the contact listed under ADDRESSES.

The document is available online for review at: http://www.spl.usace.army.mil/Missions/Civil-Works/Projects-Studies/Aliso-Creek-Study/.

Brenda S. Bowen,
Army Federal Register Liaison Officer.

[FR Doc. 2017-20910 Filed 9-28-17; 8:45 am]

BILLING CODE 3720-58-P